DEPARTMENT OF TRANSPORTATION

Federal Transit Administration

Over-the-Road Bus Accessibility Program Announcement of Project Selections

AGENCY: Federal Transit Administration (FTA), DOT.

ACTION: Notice.

SUMMARY: The U.S. Department of Transportation (DOT) Federal Transit Administration (FTA) announces the selection of projects to be funded under Fiscal Year (FY) 2011 appropriations for the Over-the-Road Bus (OTRB) Accessibility Program, authorized by Section 3038 of the Transportation Equity Act for the 21st Century (TEA-21). The OTRB Accessibility Program makes funds available to private operators of over-the-road buses to help finance the incremental capital and training costs of complying with DOT's over-the-road bus accessibility rule, published in the Federal Register on September 24, 1998.

FOR FURTHER INFORMATION CONTACT: The appropriate FTA Regional Office for grant-specific issues; or Blenda Younger, Office of Program Management, 202-366-4345, for general information about the OTRB Program. Contact information for FTA Regional Offices can be found at http://www.fta.dot.gov/.

SUPPLEMENTARY INFORMATION: A total of $8.8 million was made available for the program in FY 2011: $6.6 million for intercity fixed-route providers and $2.2 million for all other providers, such as commuter, charter, and tour operators. A total of 136 applicants requested $40.9 million. Project selections were made on a discretionary basis, based on each applicant's responsiveness to statutory project selection criteria published in the July 13, 2011 Notice of Funding Availability.

Project Implementation: Due to the high demand for the funds available, most successful applicants received less funding than they requested. The selected projects will provide funding for the incremental cost of adding at least one new lift to vehicles, retrofitting vehicles, and not to exceed $2,250 to provide training. FTA did not fund reimbursements for lifts or retrofits purchased before this announcement. Each of the following 97 awardees, as well as the 39 applicants who were not selected for funding, will receive a letter that explains how funding decisions were made.

Grantees selected for competitive discretionary funding should work with their FTA regional office to finalize the electronic grant application in FTA's Transportation Electronic Awards Management System (TEAM) for the projects identified in Tables I and II. A discretionary project identification number has been assigned to each project for tracking purposes and must be used in the TEAM application. Awardees who are new to FTA should contact their regional office immediately for guidance about becoming an FTA grantee. Regional office contact information can be found at http://www.fta.dot.gov/.

The grant applications will be sent to the U.S. Department of Labor (DOL) for certification under labor protection requirements pursuant to 49 U.S.C. 5333(b). After referring applications to affected employees represented by a labor organization, DOL will issue a certification to FTA. Terms and conditions of the certification will be incorporated in the FTA grant agreement under the Special Warranty Provisions of the Department of Labor Guidelines “Section 5333(b), Federal Transit Law” at 29 CFR 215.7.

The grantee must comply with all applicable Federal statutes, regulations, executive orders, FTA circulars, and other Federal requirements in carrying out the project supported by the FTA grant. Funds allocated in the announcement must be obligated in a grant by September 30, 2014.

Issued in Washington, DC, this 27th day of January, 2012.
Peter Rogoff,
Administrator.

BILLING CODE P

[FR Doc. 2012-2243 Filed 2-1-12; 8:45 am]

BILLING CODE C